FEDERAL COMMUNICATIONS COMMISSION

47 CFR Part 73

[DA 10-2365; MB Docket No. 02-151; RM-10453]

Television Broadcasting Services; Yuma, AZ

AGENCY: Federal Communications Commission.

ACTION: Dismissal.

SUMMARY: The Commission dismisses the petition for rulemaking filed by Arizona Western College, requesting that the Commission amend the pre-transition DTV Table Allotments to allot digital channel 24 at Yuma, Arizona. The pre-transition DTV Table of Allotments is now obsolete as the DTV transition is over and the Post-Transition Table of DTV Allotments has replaced the pre-transition DTV Table of Allotments. Therefore, the petition for rulemaking filed by Arizona Western College is dismissed.

FOR FURTHER INFORMATION CONTACT: Adrienne Y. Denysyk, adrienne.denysyk@fcc.gov, Media Bureau, (202) 418-1600.

SUPPLEMENTARY INFORMATION: This is a synopsis of the Commission's Order, MB Docket No. 02-151, adopted December 15, 2010, and released December 16, 2010. The full text of this document is available for public inspection and copying during normal business hours in the FCC's Reference Information Center at Portals II, CY-A257, 445 12th Street, SW., Washington, DC 20554. This document will also be available via ECFS (http://www.fcc.gov/cgb/ecfs/). (Documents will be available electronically in ASCII, Word 97, and/or Adobe Acrobat.) This document may be purchased from the Commission's duplicating contractor, Best Copy and Printing, Inc., 445 12th Street, SW., Room CY-B402, Washington, DC 20554, telephone 1-800-478-3160 or via e-mail http://www.BCPIWEB.com. To request this document in accessible formats (computer diskettes, large print, audio recording, and Braille), send an e-mail to fcc504@fcc.gov or call the Commission's Consumer and Governmental Affairs Bureau at (202) 418-0530 (voice), (202) 418-0432 (TTY). This document does not contain information collection requirements subject to the Paperwork Reduction Act of 1995, Public Law 104-13. In addition, therefore, it does not contain any information collection burden “for small business concerns with fewer than 25 employees,” pursuant to the Small Business Paperwork Relief Act of 2002, Public Law 107-198, see 44 U.S.C. 3506(c)(4). Provisions of the Regulatory Flexibility Act of 1980 do not apply to this proceeding.

This document is not subject to the Congressional Review Act. (The Commission, is, therefore, not required to submit a copy of this Order to the Government Accountability Office, pursuant to the Congressional Review Act, see 5 U.S.C. 801(a)(1)(A) since this proposed rule is dismissed, herein.)

Clay C. Pendarvis,
Associate Chief, Video Division, Media Bureau, Federal Communications Commission.

[FR Doc. 2010-32481 Filed 12-23-10; 8:45 am]

BILLING CODE 6712-01-P